ENVIRONMENTAL PROTECTION AGENCY

40 CFR Part 52

[EPA-HQ-OAR-2016-0098; FRL-9944-88-OAR]

Findings of Failure To Submit State Implementation Plans Required for Attainment of the 2010 1-Hour Primary Sulfur Dioxide National Ambient Air Quality Standard (NAAQS); Correction

AGENCY: Environmental Protection Agency (EPA).

ACTION: Final rule; correction.

SUMMARY: The Environmental Protection Agency (EPA) is correcting a final rule that appeared in the Federal Register on March 18, 2016 (81 FR 14736). The document included a listing of areas for which states had not submitted State Implementation Plans (SIPs) addressing nonattainment area SIP requirements for the 2010 1-hour primary sulfur dioxide (SO2) NAAQS. This action corrects that listing to clarify that the Indiana, Pennsylvania nonattainment area for the 2010 SO2 NAAQS consists of the entirety of Indiana County and part of Armstrong County.

DATES: The effective date of this document is April 18, 2016.

FOR FURTHER INFORMATION CONTACT: For questions regarding this correction, contact Dr. Larry Wallace, U.S. Environmental Protection Agency, Office of Air Quality Planning and Standards, Mail Code C539-01, Research Triangle Park, NC 27711, phone number (919) 541-0906 or by email at wallace.larry@epa.gov.

SUPPLEMENTARY INFORMATION:

Background

The EPA issued the final rule, in FR Doc 2016-06063 on March 18, 2016 (81 FR 14736). That final rule establishes certain Clean Air Act deadlines for the EPA to impose sanctions if a state does not submit a SIP addressing nonattainment area SIP requirements to bring the affected areas into attainment of the 2010 1-hour primary SO2 NAAQS and for the EPA to promulgate a Federal Implementation Plan to address any outstanding SIP requirements.

Need for Correction

As published, the final preamble contains an error in a table identifying areas subject to the findings of failure to submit related to the Indiana, Pennsylvania nonattainment area. The Indiana, Pennsylvania nonattainment area consists of the entirety of Indiana County and part of Armstrong County. See 78 FR 47191, August 5, 2013 codified at 40 CFR part 81, subpart C. The preamble table mistakenly lists Indiana County as a “partial” county that is part of the Indiana, Pennsylvania nonattainment area subject to a finding of failure to submit, when the full county should have been listed as subject to the finding. Additional notice and comment for this minor technical correction is unnecessary under 5 U.S.C. 553(b)(3)(B), and the EPA finds that good cause exists for this minor technical correction to become effective at the same time as the final rule. Accordingly, this correction is incorporated into the final rule and also becomes effective on April 18, 2016.

Correction of Publication

In FR Doc 2016-06063 appearing on page 14736 in the Federal Register of Friday, March 18, 2016, the following correction is made:

On page 14737, table entitled “STATES AND SO2 NONATTAINMENT AREAS AFFECTED BY THESE FINDINGS OF FAILURE TO SUBMIT,” remove from the end of the fourth entry, under the column titled “Nonattainment area” the text “(p)”.

Dated: April 4, 2016.
Janet G. McCabe,
Acting Assistant Administrator.

[FR Doc. 2016-08509 Filed 4-13-16; 8:45 am]

BILLING CODE 6560-50-P